DEPARTMENT OF TRANSPORTATION

Federal Motor Carrier Safety Administration

[Docket No. FMCSA-2024-0302]

Commercial Driver's License: International Motors, LLC; Application for Exemption

AGENCY: Federal Motor Carrier Safety Administration (FMCSA), Department of Transportation (DOT).

ACTION: Notice of final disposition; grant of application for exemption.

SUMMARY: FMCSA announces its decision to grant an exemption to International Motors, LLC (International), formally known as Navistar, Inc., for three Swedish commercial driver's license holders, Johan Astrom, Kristoffer Lindve, and Martin Uppman, (collectively, “the drivers”) from the Federal requirement to hold a State-issued commercial driver's license (CDL) to operate commercial motor vehicles in the United States.

DATES: The exemption is effective May 19, 2025 and expires May 20, 2030.

FOR FURTHER INFORMATION CONTACT: Bernadette Walker, Driver, and Carrier Operations Division; Office of Carrier, Driver, and Vehicle Safety Standards; FMCSA; (202) 385-2415; Bernadette.walker@dot.gov. If you have questions on viewing or submitting material to the docket, contact Dockets Operations, (202) 366-9826.

SUPPLEMENTARY INFORMATION:

I. Public Participation

Viewing Comments and Documents

To view any documents mentioned as being available in the docket, go to https://www.regulations.gov/docket/FMCSA-2024-0302/document and choose the document to review. To view comments, click this notice, then click “Browse Comments.”

If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews safety analyses and public comments and determines whether granting the exemption would likely achieve a level of safety equivalent to, or greater than, the level that would be achieved absent such exemption, pursuant to the standard set forth in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulatory Requirements

Under 49 CFR 383.23, no person shall operate a CMV without having taken and passed knowledge and driving skills tests for a commercial learner's permit or CDL that meet the Federal standards contained in subparts F, G, and H of part 383 for the CMV that person operates or expects to operate. Such drivers are also subject to the controlled substances and alcohol testing requirements of 49 CFR part 382.

Applicant's Request

International's application for an exemption was described in detail in a Federal Register notice published on January 13, 2025 (90 FR 2775), and will not be repeated, as the facts have not changed.

IV. Public Comments

The Agency received zero comments in response to the Federal Register notice seeking comment on International's request for an exemption.

V. FMCSA Decision

FMCSA has determined that the process for obtaining a CDL in Sweden is comparable to the process for obtaining a State-issued CDL under part 383 and adequately ensures that this driver can safely operate a CMV in the United States.

Under this exemption, Johan Astrom, Kristoffer Lindve, and Martin Uppman are not subject to the drug and alcohol testing requirements, set forth in 49 CFR part 382, which apply only to drivers who are subject to the CDL requirements in 49 CFR part 383, the Canadian National Safety Code, or the Licencia Federal de Conductor, and to their employers (49 CFR 382.103(a)). Therefore, as part of the equivalent level of safety provided by International, the terms and conditions of this exemption require International to implement a corporate drug and alcohol testing program substantially equivalent to the testing requirements in part 382. Because Johan Astrom, Kristoffer Lindve, and Martin Uppman are not subject to 49 CFR part 382, an exemption from the Clearinghouse requirements in subpart G is unnecessary.

Based on the information provided by International, including the drivers' experience and safety records, FMCSA concludes that the exemption, subject to the terms and conditions set forth below, would likely achieve a level of safety that is equivalent to, or greater than, the level that would be achieved absent such exemption, in accordance with 49 U.S.C. 31315(b)(1).

VI. Exemption

FMCSA grants an exemption for a period of five years subject to the terms and conditions of this decision. The exemption from the requirements of 49 CFR 383.23 is effective May 19, 2025, through May 20, 2030, 11:59 p.m. local time.

A. Applicability of Exemption

This exemption is applicable to International's drivers Johan Astrom, Kristoffer Lindve, and Martin Uppman. Under this exemption, the drivers are exempt from the CDL requirement in 49 CFR 383.23. This exemption permits the drivers to drive CMVs in the United States without a State-issued CDL. Consequently, the drivers are not subject to the requirements of 49 CFR part 382, including the Clearinghouse requirements in subpart G.

B. Terms and Conditions

When operating under this exemption, International and the drivers are subject to the following terms and conditions:

1. The drivers and International must comply with all other applicable provisions of the Federal Motor Carrier Safety Regulations (49 CFR parts 350 through 399);

2. The drivers must be in possession of the exemption document and a valid Swedish commercial license of the class of the operated vehicle;

3. The drivers must be employed by, and operate the CMV within the scope of their duties for, International;

4. At all times while operating a CMV under this exemption, the drivers must be accompanied by a holder of a State-issued CDL who is familiar with the routes traveled;

5. International must notify FMCSA in writing within 5 business days of any accident, as defined in 49 CFR 390.5, involving Johan Astrom, Kristoffer Lindve, or Martin Uppman;

6. International must notify FMCSA in writing if Johan Astrom, Kristoffer Lindve, or Martin Uppman are convicted of an offense listed in § 383.51 or a disqualifying offense under § 391.15 of the Federal Motor Carrier Safety Regulations; and

7. International must implement a drug and alcohol testing program that satisfies the requirements in 49 CFR part 382, subparts A through F, including, but not limited to, all testing requirements and participation in a consortium for random testing. International must require that Johan Astrom, Kristoffer Lindve, and Martin Uppman each be subject to those requirements. International must provide documentation of its drug and alcohol testing program upon request to FMCSA.

C. Preemption

In accordance with 49 U.S.C. 31315(d), as implemented by 49 CFR 381.600, during the period this exemption is in effect, no State shall enforce any law or regulation applicable to interstate commerce that conflicts with or is inconsistent with this exemption with respect to a firm or person operating under the exemption. States may, but are not required to, adopt the same exemption with respect to operations in intrastate commerce.

D. Notification to FMCSA

Under the exemption, International must notify FMCSA within 5 business days of any positive drug or alcohol tests, or accident (as defined in 49 CFR 390.5), involving Johan Astrom, Kristoffer Lindve, or Martin Uppman while operating a CMV under the terms of this exemption. The notification about accidents must include the following information:

a. Identifier of the Exemption: “International- Johan Astrom, Kristoffer Lindve, and Martin Uppman;”

b. Name of operating carrier and USDOT number;

c. Date of the accident;

d. City or town, and State, in which the accident occurred, or closest to the accident scene;

e. Driver's name and license number;

f. Co-driver's name (if any) and license number;

g. Vehicle number and State license number;

h. Number of individuals suffering physical injury;

i. Number of fatalities;

j. The police-reported cause of the accident, if provided by the enforcement agency;

k. Whether the driver was cited for violation of any traffic laws, motor carrier safety regulations; and

l. The total on-duty time accumulated during the 7 consecutive days prior to the date of the accident, and the total on-duty time and driving time in the work shift prior to the accident.

Reports filed under this provision shall be emailed to MCPSD@dot.gov with “International FMCSA 2024-0302” in the subject line.

VII. Termination

FMCSA does not believe the drivers or the motor carrier covered by this exemption will experience any deterioration of their safety records. However, the exemption will be rescinded if: (1) International or the drivers operating under the exemption fail to comply with the terms and conditions of the exemption; (2) the exemption has resulted in a lower level of safety than was maintained before it was granted; or (3) continuation of the exemption would not be consistent with the goals and objects of 49 U.S.C. 31136(e) and 31315(b).

Sue Lawless,
Assistant Administrator.

[FR Doc. 2025-08839 Filed 5-16-25; 8:45 am]

BILLING CODE 4910-EX-P